DEPARTMENT OF TRANSPORTATION

Federal Aviation Administration

Public Notice for Waiver of Aeronautical Land-Use Assurance; Midway Airport, Chicago, Illinois

AGENCY: Federal Aviation Administration, DOT.

ACTION: Notice of intent.

SUMMARY: The Federal Aviation Administration (FAA) proposes to rule and invite comment on the release of land at Chicago Midway International Airport under the provisions of Section 125 of the Wendell H. Ford Aviation Investment Act for the 21st Century (AIR21).

DATES: Comments must be received on or before April 1, 2009.

ADDRESSES: Documents reflecting this FAA action may be reviewed at 2300 East Devon Avenue, Des Plaines, Illinois, or at City of Chicago Department of Aviation, 10610 Zemke Road, Chicago, Illinois.

FOR FURTHER INFORMATION CONTACT: James G. Keefer, Manager, Chicago Airports District Office, Federal Aviation Administration, 2300 East Devon Avenue, Des Plaines, Illinois, 60018. Telephone Number 847-294-7336/FAX Number 847-294-7046.

SUPPLEMENTARY INFORMATION: The FAA invites public comment on the request to release property at Chicago Midway International Airport under the provisions of AIR 21. The following is a brief overview of the request:

The City of Chicago, the owner of Chicago Midway International Airport, requests the release of certain parcels of land from airport property for the following purposes: (1) To enable the exchange of certain city-owned airport land for other City-owned non-airport land contiguous to airport property; (2) to reflect the relocation of certain public roadways for airport development; and (3) to release certain city-owned airport land that is no longer used or needed for airport purposes. Neither the use nor the ownership of the property will change as a result of this request. The requested release will bring the airport Exhibit A map into conformance with its existing land use.

The City of Chicago Department of Aviation has requested to release to the City of Chicago Department of Transportation, for use by the Chicago Transit Authority approximately 2.02 acres of city-owned airport land, located south of vacated West 59th Street, north of relocated West 59th Street and east of the airport's southern entrance roads, in exchange for approximately 2.18 acres of City-owned non-airport land, located north of vacated West 59th Street, east of the airport terminal and west of the Chicago Transit Authority's Orange Line train station, will be added to the airport. The City also requests the release of airport land used for relocated public roadways consisting of approximately 6.77 acres.

The relocated public roadways include portions of South Cicero Avenue between West 53rd Street and West 61st Street and portions of West 59th Street between the Beltline Railroad and South Cicero Avenue. The airport has received approximately 15.53 acres from the vacation of former public roadways, including the roadways that were relocated. The City wants to release Parcel 10 and easements for Parcels 1 and 4. The parcel and easements, originally acquired for airport navigational aid purposes are no longer needed. Parcel 10, consisting of approximately 0.18 acres, was acquired with Federal financial assistance in 1958 for navigational aids that were eventually located elsewhere. Parcel 10 is located approximately 1555 feet northwest of the airport, it is beyond the end of the runway safety zone, and it is not needed for any airport purposes. The City will return the fair market value proceeds of Parcel 10 to the Chicago Airport system.

Issued in Des Plaines, Illinois, on February 17, 2009.
James G. Keefer,
Manager, Chicago Airports District Office.

[FR Doc. E9-4350 Filed 2-27-09; 8:45 am]

BILLING CODE 4910-13-P